DEPARTMENT OF THE INTERIOR

Fish and Wildlife Service

[FWS-HQ-FAC-2023-N048; FXFR131109WFHS0-234-FF09F12000; OMB Control Number 1018-0078]

Agency Information Collection Activities; Submission to the Office of Management and Budget; Injurious Wildlife; Importation Certification for Live Fish and Fish Eggs

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before August 14, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0078” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On February 14, 2023, we published in the Federal Register (88 FR 9532) a notice of our intent to request that OMB approve this information collection. In that notice, we solicited comments for 60 days, ending on April 17, 2023. In an effort to increase public awareness of, and participation in, our public commenting processes associated with information collection requests (ICR), the Service also published the Federal Register notice on Regulations.gov (Docket No. FWS-HQ-FAC-2023-0002) to provide the public with an additional method to submit comments (in addition to the typical Info_Coll@fws.gov email and U.S. mail submission methods). We received no comments in response to that notice.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Lacey Act (Act; 18 U.S.C. 42) prohibits the importation of any animal deemed to be and prescribed by regulation to be injurious to:

• Human beings;

• The interests of agriculture, horticulture, and forestry; or

• Wildlife or the wildlife resources of the United States.

Implementation and enforcement of the Lacey Act are the responsibility of the Department of the Interior. The implementing regulations at 50 CFR 16.13 allow for the importation of dead uneviscerated salmonids (family Salmonidae), live salmonids, live fertilized eggs, or gametes of salmonid fish into the United States. To effectively carry out our responsibilities and protect the aquatic resources of the United States, we must collect information regarding the source, destination, and health status of salmonid fish and their reproductive parts. Moreover, in order to evaluate import requests, we must be able to ascertain that the collected information is accurate. Individuals who provide the fish health data and sign the health certificates must demonstrate professional qualifications and be approved as Title 50 Certifiers by the Fish and Wildlife Service through an application process.

We use three forms to collect this Title 50 Certifier application information:

• FWS Form 3-2273 (Title 50 Certifying Official Form)—New applicants and those seeking recertification as a title 50 certifying official provide information so that we can assess their qualifications.

• FWS Form 3-2274 (Title 50 Certification Form)—Certifying officials use this form to affirm the health status of the fish or fish reproductive products to be imported.

• FWS Form 3-2275 (Title 50 Importation Request Form)—We use the information on this form to track and control importations and to ensure the safety of shipments.

Proposed Revisions

With this submission, we propose to modify Forms 3-2274 and 3-2275 to add fields to collect email addresses and contact phone numbers with each submission. We do not plan to revise Form 3-2273, which already collects this information. We also plan to begin publishing, with OMB approval, the results of this information collection for Form 3-2273 on a publicly accessible, Service-managed web page to inform importers of Certified Signing Officials by country of origin.

The public may request copies of any form or document contained in this information collection by sending a request to the Service Information Collection Clearance Officer in ADDRESSES, above.

Title of Collection: Injurious Wildlife; Importation Certification for Live Fish and Fish Eggs (50 CFR 16.13).

OMB Control Number: 1018-0078.

Form Numbers: 3-2273, 3-2274, and 3-2275.

Type of Review: Revision of a currently approved collection.

Respondents/Affected Public: Aquatic animal health professionals seeking to be certified title 50 inspectors; certified title 50 inspectors who perform health certifications on live salmonids; and any entity wishing to import live salmonids or salmonid reproductive products into the United States.

Respondent's Obligation: Required to obtain or retain a benefit.

Frequency of Collection: On occasion.

Total Estimated Annual Nonhour Burden Cost: None.

Requirement | Annual number of respondents | Total annual responses | Completion time per response | Total annual burden hours
FWS Form 3-2273 (Title 50 Certifying Official Form)
Private Sector | 9 | 9 | 1 hour | 9
Government | 7 | 7 | 1 hour | 7
FWS Form 3-2274 (U.S. Title 50 Health Certification Form)
Private Sector | 10 | 20 | 30 minutes | 10
Government | 15 | 30 | 30 minutes | 15
FWS Form 3-2275 (Title 50 Importation Request Form)
Private Sector | 10 | 20 | 15 minutes | 5
Government | 15 | 30 | 15 minutes | 8
Totals | 66 | 116 |  | 54

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-14833 Filed 7-12-23; 8:45 am]

BILLING CODE 4333-15-P